NATIONAL SCIENCE FOUNDATION

Advisory Committee for Environmental Research and Education; Notice of Meeting

In accordance with the Federal Advisory Committee Act (Pub. L. 92-463, as amended), the National Science Foundation announces the following meeting:

Name: Advisory Committee for Environmental Research and Education (9487).

Dates: October 17, 9 a.m.-5 p.m. and October 18, 2007, 9 a.m.-2:30 p.m.

Place: Stafford I, Room 1235, National Science Foundation, 4201 Wilson Blvd., Arlington, Virginia 22230.

Type of Meeting: Open.

For Further Information Contact: Alan Tessier, National Science Foundation, 4201 Wilson Blvd., Suite 635, Arlington, Virginia 22230, Phone: 703-292-7198.

If you are attending the meeting and need access to the NSF, please contact the individual listed above so your name may be added to the building access list.

Minutes: May be obtained from the contact person listed above.

Purpose of Meeting: To provide advice, recommendations, and oversight concerning support for environmental research and education.

Agenda:

October 17

Introduction of New Members

Update on recent NSF environmental activities

Joint Session with NSF Advisory Committee on Geosciences

October 18

Discussion of Future AC/ERE activities

Meeting with the Director (or Representative)

Establishment of AC/ERE Task Groups

Dated: August 28, 2007.
Susanne Bolton,
Committee Management Officer.

[FR Doc. E7-17342 Filed 8-30-07; 8:45 am]

BILLING CODE 7555-01-P